ENVIRONMENTAL PROTECTION AGENCY

[ER-FRL-6672-2]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in the Federal Register dated April 1, 2005 (70 FR 16815).

Draft EISs

EIS No. 20050347, ERP No. D-DOE-B05194-ME, Bangor Hydro-Electric Northeast Reliability Interconnect, Construct, Connect, Operate and Maintain an Electric Transmission Line, Amend Presidential Permit (PP-89), DOE/EIS-0372, Hancock, Penobscot and Washington Counties, ME.

Summary: EPA expressed environmental concerns about the project related to direct and indirect impacts to wetlands and wildlife habitat. Rating EC2.

EIS No. 20050471, ERP No. D-AFS-J65456-WY, Moose-Gypsum Project, Proposes to Authorize Vegetation Treatments, Watershed Improvements, and Travel Plan and Recreation Updates, Pinedale Ranger District, Bridger-Teton National Forest, Sublette County, WY.

Summary: EPA supports the potential benefits of the proposed action that may result in improvement of the desired future conditions. However, the final EIS should include information on sediment, water quality, fisheries, and wildlife to adequately determine the extent of project impacts. Rating EC2.

EIS No. 20050473, ERP No. D-COE-J39034-MT, Upper Columbia Alternative Flood Control and Fish Operations, Implementation, Libby and Hungry Horse Dams, Columbia River Basin, MT.

Summary: EPA expressed environmental concerns about potential adverse impacts to the aquatic ecosystem and recommended avoidance of unnatural double peak hydrographs and further evaluation of Alternative LV2 as part of a potential long-term strategy to more effectively recover the endangered Kootenai River white sturgeon. EPA supports dam and reservoir operations that avoid exceedances of total dissolved gas saturation standards as much as possible and more natural flow regimes and net overall benefits to the aquatic ecosystems. Rating EC2.

EIS No. 20050500, ERP No. D-AFS-L65498-ID, Newsome Creek Watershed Rehabilitation, Stream Restoration and Improvement and Decommissioning of Roads, Red River Ranger District, Nez Perce National Forest, Idaho County, ID.

Summary: EPA expressed environmental concerns about ongoing water quality and potential impacts of toxic substances released by mining activities, and recommended that the final EIS include data demonstrating that water quality standards would be met and details on the mine tailings management. Rating EC1.

EIS No. 20050503, ERP No. D-GSA-L80018-WA, Peace Arch Port of Entry Redevelopment Project, Improvements to Security, Safety and Functionality, Canadian Border in Blaine, Whatcom County, WA.

Summary: EPA expressed environmental concerns about the potential for impacts to surface water quality from storm water run-off. Rating EC1.

EIS No. 20050528, ERP No. D-AFS-F65060-IN, Tell City Windthrow 2004 Project, Salvage Harvest and Prescribed Burning of Windthrow Timber, Implementation, Hoosier National Forest, Perry, Crawford and Dubois Counties, IN.

Summary: EPA does not object to the proposed action. Rating LO.

Rating LO.

EIS No. 20050504, ERP No. DC-COE-H36012-MO, St. Johns Bayou and New Madrid Floodway Project, Channel Enlargement and Improvement, Revised Information to Clarify and Address Issues of Concern, Flood Control National Economic Development (NED), New Madrid, Mississippi and Scott Counties, MO.

Summary: EPA recommended that the Final RSEIS 2 provide additional information on locations and expected benefits of mitigation measures, and on contingencies for fishery impacts in the event that the proposed fish passage measures into the New Madrid Floodway do not perform as anticipated. Rating EC2.

Final EISs

EIS No. 20050398, ERP No. F1-BLM-K65158-CA, Clear Creek Resource Management Area Plan Amendment, Hollister Resource Management Plan, Implement the Decision Made in the 1999 CCMA ROD, San Benito and Fresno Counties, CA.

Summary: EPA supports BLM's proposal to immediately close certain routes to reduce erosion and sediment loading in streams and avoid impacts to special status species. BLM has also committed to incorporating the results of EPA's CCMA asbestos exposure evaluation into a subsequent NEPA document soon after our study is completed in July 2006. EPA expressed some human health concerns and recommended that, in the interim, BLM implement measures in the CCMA to reduce children's exposure to asbestos, improve public education/communication regarding asbestos risks, and commit to a 2006 summer dry season closure between Memorial Day weekend and November 15.

EIS No. 20050381, ERP No. F-AFS-K65394-CA, Los Padres National Forest Oil and Gas Leasing Management, Implementation, Kern, Los Angeles, Monterey, Santa Barbara and San Luis Obispo Counties, CA.

Summary: EPA continued to expressed concerns about potential impacts from the project's short-term emissions of ozone precursors and particulate smaller than 10 microns, and recommended the Forest Service include additional lease stipulations to reduce air pollutant emissions.

EIS No. 20050407, ERP No. F-N.S.-K65268-AZ, Saguaro National Park Fire Management Plan, Implementation, Tucson, AZ.

Summary: EPA does not object to the proposed project.

EIS No. 20050491, ERP No. F-AFS-B65011-00, White Mountain National Forest Land and Resource Management Plan, Forest Plan Revision, Implementation, Carroll, Coos, Grafton Counties, NH and Oxford County, ME.

Summary: EPA does not object to the proposed action.

EIS No. 20050514, ERP No. F-NIH-B81009-MA, National Emerging Infectious Laboratories, Selected the Preferred Alternative, Construction of National Biocontainment Laboratory, BioSquare Research Park, Boston University Medical Center Campus, Boston, MA.

Summary: EPA does not object to the proposed project.

EIS No. 20050519, ERP No. F-FHW-B40095-RI, U.S. Route 6/Route 10 Interchange Improvement Project, To Identify Transportation Alternative, Funding, City of Providence County, RI.

Summary: EPA does not object to the preferred alternative.

EIS No. 20050525, ERP No. F-N.S.-K61161-CA, Golden Gate National Recreation Area (GGNRA) Fire Management Plan, Implementation, Muir Woods National Monument, Fort Point National Historic Site, San Mateo, San Francisco and Marin Counties, CA.

Summary: The FEIS has adequately responded to our concerns with air quality and smoke management, water quality and wetlands, and herbicide use; therefore, EPA does not object to the proposed action.

EIS No. 20050526, ERP No. F-N.S.-K65271-CA, Santa Monica Mountains National Recreation Area, Fire Management Plan, Implementation, Santa Monica Mountains, CA.

Summary: EPA does not object to this project.

EIS No. 20050527, ERP No. F-AFS-L65478-OR, Big Butte Springs Timber Sales, To Implementation Management Direction, Roque River-Siskiyou National Forest, Butte Falls Ranger District, Cascade Zone, Jackson County, OR.

Summary: EPA's environmental concerns about potential adverse impacts to water quality and natural resources have been addressed; therefore, EPA does not object to the proposed action.

EIS No. 20050529, ERP No. F-FHW-K40256-CA, 1st Street Viaduct and Street Widening Project, To Replace Two Traffic Lanes on the 1st Street Viaduct between Vignes Street and Mission Road, Funding, in the City and County of Los Angeles, CA.

Summary: EPA continues to have environmental concerns about the proposed project regarding air quality and mitigation for construction-related diesel emissions.

EIS No. 20060000, ERP No. F-BLM-G65096-NM, McGregor Range Resource Management Plan Amendment (RMPA), Implementation, Otero County, NM.

Summary: No formal comment letter was sent to the preparing agency.

Dated: February 6, 2006.
Robert W. Hargrove,
Director, NEPA Compliance Division, Office of Federal Activities.

[FR Doc. E6-1907 Filed 2-9-06; 8:45 am]

BILLING CODE 6560-50-P